DEPARTMENT OF LABOR

Office of the Secretary

Submission for OMB Review; Comment Request

October 20, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on 202-693-4129 (this is not a toll-free number) or E-Mail: king.darrin@dol.gov.

Comments should be sent to Office of Information and Regulatory Affairs, Attn: OMB Desk Officer for the Employment and Training Administration (ETA), Office of Management and Budget, Room 10235, Washington, DC 20503 (202-395-7316/this is not a toll-free number), within 30 days from the date of this publication in the Federal Register.

This OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: New collection.

Title: Project Gate.

OMB Number: 1205-0NEW.

Affected Public: Individuals or households.

Frequency: 6 month and 18 month intervals.

Type of Response: Reporting.

Number of Respondents: 3,200.

Number of Annual Responses: 6,400.

Estimated Time per Response: 40 minutes.

Total Burden Hours: 4,267.

Total Annualized Capital/Startup Costs: $0.

Total Annual Costs (operating/maintaining systems or purchasing services): $0.

Description: DOL is seeking OMB approval for a follow-up survey to be conducted as part of the Project GATE (Growing America Through Entrepreneurship) demonstration and evaluation of services for micro enterprise development. Project GATE is a demonstration program designed to assist individuals interested in self-employment to develop their businesses. The survey will help DOL determine whether the program should be replicated on a larger scale.

Ira L. Mills,
Departmental Clearance Officer.

[FR Doc. 03-27353 Filed 10-29-03; 8:45 am]

BILLING CODE 4510-30-M